DEPARTMENT OF COMMERCE

National Institute of Standards and Technology

Smart Grid Advisory Committee

AGENCY: National Institute of Standards and Technology, Department of Commerce.

ACTION: Notice of open meeting.

SUMMARY: The Smart Grid Advisory Committee (SGAC or Committee), will hold a meeting on Tuesday, November 29, 2011 from 8:30 a.m. to 5 p.m. The primary purpose of this meeting is to discuss the Committee's preliminary recommendations to be included in the Committee's report to NIST. The preliminary recommendations that the Committee will consider at the meeting will be posted on the SGAC Web site at http://www.nist.gov/smartgrid. The agenda may change to accommodate Committee business. The final agenda will be posted on the Smart Grid Web site at http://www.nist.gov/smartgrid.

DATES: The SGAC will hold a meeting on Tuesday, November 29, 2011, from 8:30 a.m. until 5 p.m. The meeting will be open to the public.

ADDRESSES: The meeting will be held in Lecture Room E, in the Administration Building at NIST in Gaithersburg, Maryland. Please note admittance instructions under the SUPPLEMENTARY INFORMATION section of this notice.

FOR FURTHER INFORMATION CONTACT: Dr. George W. Arnold, National Coordinator for Smart Grid Interoperability, National Institute of Standards and Technology, 100 Bureau Drive, Mail Stop 8100, Gaithersburg, MD 20899-8100; telephone (301) 975-2232, fax (301) 975-4091; or via email at nistsgfac@nist.gov.

SUPPLEMENTARY INFORMATION: The Committee was established in accordance with the Federal Advisory Committee Act (5 U.S.C. App.).

Background information on the Committee is available at http://www.nist.gov/smartgrid/committee.cfm.

Pursuant to the Federal Advisory Committee Act, 5 U.S.C. App., notice is hereby given that the Smart Grid Advisory Committee (SGAC) will hold a meeting on Tuesday, November 29, 2011, from 8:30 a.m. until 5 p.m. The meeting will be held in Lecture Room E, in the Administration Building at NIST in Gaithersburg, Maryland. The primary purpose of this meeting is to discuss the Committee's preliminary recommendations to be included in the Committee's report to NIST. The preliminary recommendations that the Committee will consider at the meeting will be posted on the SGAC Web site at http://www.nist.gov/smartgrid. The agenda may change to accommodate Committee business. The final agenda will be posted on the Smart Grid Web site at http://www.nist.gov/smartgrid.

Individuals and representatives of organizations who would like to offer comments and suggestions related to the Committee's affairs are invited to request a place on the agenda by contacting Cuong Nguyen at cuong.nguyen@nist.gov or (301) 975-2254 no later than November 22, 2011. On November 29, 2011, approximately one-half hour will be reserved at the end of the meeting for public comments, and speaking times will be assigned on a first-come, first-serve basis. The amount of time per speaker will be determined by the number of requests received, but is likely to be about 3 minutes each. Questions from the public will not be considered during this period. Speakers who wish to expand upon their oral statements, those who had wished to speak but could not be accommodated on the agenda, and those who were unable to attend in person are invited to submit written statements to the Office of the National Coordinator for Smart Grid Interoperability, National Institute of Standards and Technology, 100 Bureau Drive, Mail Stop 8100, Gaithersburg, MD 20899-8100; fax (301) 975-4091; or via email at nistsgfac@nist.gov.

All visitors to the NIST site are required to pre-register to be admitted. Anyone wishing to attend this meeting must register by close of business Tuesday, November 22, 2011, in order to attend. Please submit your name, time of arrival, email address, and phone number to Cuong Nguyen. Non-U.S. citizens must also submit their country of citizenship, title, employer/sponsor, and address. Mr. Nguyen's email address is cuong.nguyen@nist.gov and his phone number is (301) 975-2254.

Dated: November 8, 2011.
Willie E. May,
Associate Director for Laboratory Programs.

[FR Doc. 2011-29319 Filed 11-10-11; 8:45 am]

BILLING CODE 3510-13-P